DEPARTMENT OF COMMERCE

National Institute of Standards and Technology

Announcing a Meeting of the Information Security and Privacy Advisory Board

AGENCY: National Institute of Standards and Technology, Commerce.

ACTION: Notice.

SUMMARY: The Information Security and Privacy Advisory Board (ISPAB) will meet Wednesday, November 3, 2010, from 9 a.m. until 4:30 p.m., Thursday, November 4, 2010, from 8:30 a.m. until 5 p.m., and Friday, November 5, 2010 from 8 a.m. until 12:30 p.m. All sessions will be open to the public.

DATES: The meeting will be held on Wednesday, November 3, 2010, from 9 a.m. until 4:30 p.m., Thursday, November 4, 2010, from 8:30 a.m. until 5 p.m., and Friday, November 5, 2010 from 8 a.m. until 12:30 p.m.

ADDRESSES: The meeting will take place at the Marriott Hotel Washington, 1221 22nd Street, NW., Washington, District Of Columbia 20037 on November 3, 4, & 5, 2010. Please see admittance instructions in the SUPPLEMENTARY INFORMATION section of this notice.

FOR FURTHER INFORMATION CONTACT: Mr. Matthew Scholl, Information Technology Laboratory, National Institute of Standards and Technology, 100 Bureau Drive, Stop 8930, Gaithersburg, MD 20899-8930, telephone: (301) 975-2006.

SUPPLEMENTARY INFORMATION: Pursuant to the Federal Advisory Committee Act, 5 U.S.C. App., notice is hereby given that the Information Security and Privacy Advisory Board (ISPAB) will meet Wednesday, November 3, 2010, from 9 a.m. until 4:30 p.m., Thursday, November 4, 2010, from 8:30 a.m. until 5 p.m., and Friday, November 5, 2010 from 8 a.m. until 12:30 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html/.

The agenda is expected to include the following items:

—Medical Device Vendor Panel discussion of security, anti-virus and patching issues,

—Inspectors General Panel discussion on current trends and methods for assessing agencies and thoughts on continuous monitoring,

—Presentation from USCert and the National Vulnerability Database to discuss attack and reporting data and vulnerability trends,

—Presentation from Mississippi State University on Current Research in Computer Forensics,

—CIO Panel discussion on value of clearances for understanding of threat space and influence on security programs,

—U.S. Government Configuration Baseline (USGCB),

—Secure Domain Name System (DNSSec) Deployment propagation report,

—Agency Approaches to Security Programs, CISO Innovations and micro-agencies,

—Talk with the National Security Staff/Cyber Coordinators Office,

—Update of NIST Computer Security Division, and

—Information Security and Privacy Advisory Board Work Planning Session.

Note that agenda items may change without notice because of possible unexpected schedule conflicts of presenters. The final agenda will be posted on the Web site indicated above.

Public Participation: The ISPAB agenda will include a period of time, not to exceed thirty minutes, for oral comments from the public (Thursday November 4, 2010, at 3-3:30 p.m.). Each speaker will be limited to five minutes. Members of the public who are interested in speaking are asked to contact Mr. Matthew Scholl at the telephone number indicated above.

In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media.

Dated: September 14, 2010.
Harry S. Hertz,
Director, Baldrige National Quality Program.

[FR Doc. 2010-23723 Filed 9-22-10; 8:45 am]

BILLING CODE 3510-13-P